DEPARTMENT OF THE INTERIOR

Bureau of Reclamation

Safety Modifications for Folsom Dam and Appurtenant Structures (Folsom Safety of Dams Project)— Sacramento, El Dorado, and Placer Counties, CA

AGENCY: Bureau of Reclamation, Interior.

ACTION: Notice of intent to prepare an Environmental Impact Statement (EIS) and notice of public scoping meetings.

SUMMARY: Pursuant to Section 102(2)(C) of the National Environmental Policy Act of 1969 (NEPA), the Bureau of Reclamation (Reclamation) intends to prepare an EIS for the implementation of the safety modifications for Folsom Dam and Appurtenant Structures (Folsom Safety of Dams Project). Reclamation seeks to improve public safety by modifying Folsom Facilities and its appurtenant structures (Folsom Facilities) to mitigate issues identified in previous and ongoing safety evaluations. Studies are being conducted by Reclamation to identify alternatives (modifications) to address these conditions.

Engineering, Economic, and Environmental studies are being conducted to help determine reasonable design alternatives. Information gathered from the EIS process will be used in conjunction with engineering and economic principles to determine preferred alternatives.

DATES: Reclamation will seek public input on alternatives, concerns, and issues to be addressed in the EIS through scoping meetings on Tuesday, November 1 and Thursday, November 3, 2005, from 6:30 to 9 p.m. in Folsom, California.

ADDRESSES: The public scoping meetings will be held at the Folsom Community Center, 52 Natoma Street in Folsom, California 95630.

Send written comments on the scope of alternatives and impacts to be considered to Mr. Shawn Oliver at the address below, no later than 2 weeks after the second scheduled public scoping meeting.

FOR FURTHER INFORMATION CONTACT: Mr. Shawn Oliver, Bureau of Reclamation, 7794 Folsom Dam Road, Folsom, California 95630; telephone number (916) 989-7256; e-mail soliver@mp.usbr.gov.

SUPPLEMENTARY INFORMATION: Reclamation seeks to mitigate potential safety issues identified in previous and ongoing studies for the Folsom Dam complex, including Main Folsom Dam, the two wing dams, Mormon Island Auxiliary Dam, and the eight dikes. Retrofitting and increasing the flood control capacity of the Folsom Dam and its appurtenant structures are currently being studied. Locating and extracting adequate borrow materials for embankment modifications will be a major component of the project. Reclamation has determined that an EIS is warranted to examine the potential impacts for implementation of the Folsom CAS Project on the natural and human environment.

Potential Modification Alternatives to the Folsom Dam and appurtenant structures are being identified to reduce risks associated with:

1. Major Flood Events

2. Earthquakes

3. Seepage and Piping through Embankments

Folsom Dam and Embankment Hydrologic Alternatives include, but are not limited to:

1. Embankment Raise Options

2. Auxiliary Spillway on the Left Abutment Options

Folsom Dam and Embankment Seismic and Static Alternatives include, but are not limited to:

1. Mormon Island Auxiliary Dam Seismic Alternatives

2. Concrete Dam Seismic Options

3. Folsom Dam and Embankment Static Alternatives

If special assistance is required at the scoping meetings, please contact Mr. Shawn Oliver, Bureau of Reclamation, at (916) 989-7256. Please notify Mr. Oliver as far in advance of the meetings as possible to enable Reclamation to secure the needed services. If a request cannot be honored, the requestor will be notified.

Reclamation's policy is to make comments, including names and home addresses of respondents, available for public review. Individual respondents may request that we withhold their name and/or home address from public disclosure, which Reclamation will honor to the extent allowable by law. If you wish us to withhold your name and/or address, you must state this prominently at the beginning of your comment. Reclamation will make all submissions from organizations or businesses, and from individuals identifying themselves as representatives or officials of organizations or businesses, available for public disclosure in their entirety.

Dated: August 25, 2005.
Michael Nepstad,
Deputy Regional Environmental Officer, Mid-Pacific Region.

[FR Doc. 05-20051 Filed 10-5-05; 8:45 am]

BILLING CODE 4310-MW-P